SUSQUEHANNA RIVER BASIN COMMISSION

Public Hearing

AGENCY: Susquehanna River Basin Commission.

ACTION: Notice.

SUMMARY: The Susquehanna River Basin Commission will hold a public hearing on July 31, 2025. The Commission will hold this hearing in person and telephonically. At this public hearing, the Commission will hear testimony on the projects listed in the Supplementary Information section of this notice. Such projects and actions are intended to be scheduled for Commission action at its next business meeting, scheduled for September 24, 2025, which will be noticed separately. The public should note that this public hearing will be the only opportunity to offer oral comments to the Commission for the listed projects and actions. The deadline for the submission of written comments is August 11, 2025.

DATES: The public hearing will convene on July 31, 2025, at 6:00 p.m. The public hearing will end at 9:00 p.m. or at the conclusion of public testimony, whichever is earlier. The deadline for submitting written comments is Monday, August 11, 2025.

ADDRESSES: This public hearing will be conducted in person and telephonically. You may attend in person at Susquehanna River Basin Commission, 4423 N. Front St., Harrisburg, Pennsylvania, or join by telephone at Toll-Free Number 1-877-304-9269 and then enter the guest passcode 2619070 followed by #.

FOR FURTHER INFORMATION CONTACT: Jason Oyler, General Counsel and Secretary to the Commission, telephone: (717) 238-0423 or joyler@srbc.gov. Information concerning the project applications is available at the Commission's Water Application and Approval Viewer at https://www.srbc.gov/waav. Additional supporting documents are available to inspect and copy in accordance with the Commission's Access to Records Policy at www.srbc.gov/regulatory/policies-guidance/docs/access-to-records-policy-2009-02.pdf.

SUPPLEMENTARY INFORMATION: The public hearing will cover the following projects:

Projects Scheduled for Action

1. Project Sponsor and Facility: Blackhill Energy LLC (Chemung River), Athens Township, Bradford County, Pa. Application for renewal with modification of surface water withdrawal of up to 1.999 mgd (peak day) (Docket No. 20220903).

2. Project Sponsor: Calpine Mid Merit, LLC. Project Facility: York Energy Center 1, Peach Bottom Township, York County, Pa. Application for consumptive use of up to 4.900 mgd (peak day).

3. Project Sponsor: Calpine Mid Merit, LLC. Project Facility: York Energy Center 2 (Susquehanna River), Peach Bottom Township, York County, and Drumore Township, Lancaster County, Pa. Modification to surface water withdrawal of up to 19.010 mgd (peak day) and consumptive use of up to 5.800 mgd (peak day) (Docket No. 20060308).

4. Project Sponsor and Facility: City of Lock Haven, Wayne Township, Clinton County, Pa. Applications for groundwater withdrawals (30-day averages) of up to 0.720 mgd from the Matz Well and 0.720 mgd from the Quaker Hill Well.

5. Project Sponsor and Facility: Coterra Energy Inc., Eaton Township, Wyoming County, Pa. Application for renewal of groundwater withdrawals of up to 0.864 mgd (30-day average) from the Hatchery Wellfield (Wells 1, 2, and 3) (Docket No. 20200903).

6. Project Sponsor and Facility: Expand Operating LLC (Susquehanna River), Standing Stone Township, Bradford County, Pa. Application for surface water withdrawal of up to 4.000 mgd (peak day).

7. Project Sponsor and Facility: Expand Operating LLC (Susquehanna River), Wilmot Township, Bradford County, Pa. Application for renewal of surface water withdrawal of up to 3.000 mgd (peak day) (Docket No. 20200905).

8. Project Sponsor and Facility: Expand Operating LLC (Susquehanna River), Windham Township, Wyoming County, Pa. Application for renewal of surface water withdrawal of up to 3.000 mgd (peak day) (Docket No. 20200906).

9. Project Sponsor and Facility: Expand Operating LLC (Wyalusing Creek), Wyalusing Township, Bradford County, Pa. Application for renewal of surface water withdrawal of up to 3.000 mgd (peak day) (Docket No. 20200907).

10. Project Sponsor: Graymont (PA) Inc. Project Facility: Pleasant Gap Facility, Spring Township, Centre County, Pa. Application for renewal of groundwater withdrawal of up to 0.050 mgd (30-day average) from the Plant Make-Up Well (Docket No. 20100307).

11. Project Sponsor and Facility: Green Leaf Water LLC (Lycoming Creek), Lewis Township, Lycoming County, Pa. Application for renewal of surface water withdrawal of up to 0.900 mgd (peak day) (Docket No. 20200908).

12. Project Sponsor and Facility: Greylock Production, LLC (Pine Creek), Gaines Township, Tioga County, Pa. Application for surface water withdrawal of up to 3.000 mgd (peak day).

13. Project Sponsor and Facility: Hanover Foods Corporation, Penn and Heidelberg Townships, York County, Pa. Applications for renewal of consumptive use of up to 0.499 mgd (peak day) and groundwater withdrawals (30-day averages) of up to 0.072 mgd from Well PW-3, 0.144 mgd from Well PW-4, and 0.231 mgd from Well PW-5 (Docket Nos. 19980503 and 19991104).

14. Project Sponsor and Facility: Hegins-Hubley Authority, Hegins Township, Schuylkill County, Pa. Application for renewal of groundwater withdrawal of up to 0.216 mgd (30-day average) from Well 6 (Docket No. 19981204).

15. Project Sponsor: Hillandale-Gettysburg, L.P. Project Facility: Site 3, Tyrone Township, Adams County, Pa. Applications for groundwater withdrawals (30-day averages) of up to 0.019 mgd from Well 1, 0.035 mgd from Well 2, 0.035 mgd from Well 3, and 0.060 mgd from Well 4.

16. Project Sponsor and Facility: Lykens Borough Authority, Wiconisco Township, Dauphin County, Pa. Applications for groundwater withdrawals (30-day averages) of up to 0.393 mgd from Well 2 and 0.035 mgd from Well 3.

17. Project Sponsor and Facility: Pennsylvania General Energy Company, L.L.C. (Muncy Creek), Shrewsbury Township, Lycoming County, Pa. Application for surface water withdrawal of up to 1.500 mgd (peak day).

18. Project Sponsor and Facility: Repsol Oil & Gas USA, LLC (Susquehanna River), Sheshequin Township, Bradford County, Pa. Application for renewal of surface water withdrawal of up to 1.500 mgd (peak day) (Docket No. 20200913).

19. Project Sponsor and Facility: Sabre Energy Development LLC (Muncy Creek), Muncy Creek Township, Lycoming County, Pa. Application for surface water withdrawal of up to 1.700 mgd (peak day).

20. Project Sponsor and Facility: Sabre Energy Development LLC (Muncy Creek), Penn Township, Lycoming County, Pa. Application for surface water withdrawal of up to 1.700 mgd (peak day).

21. Project Sponsor: Veolia Water Pennsylvania, Inc. Project Facility: Newberry Operation, Newberry Township, York County, Pa. Application for renewal of groundwater withdrawal of up to 0.121 mgd (30-day average) from the Paddletown Well (Docket No. 20090917).

22. Project Sponsor: York Haven Power Company, LLC. Project Facility: York Haven Hydroelectric Project, Londonderry Township, Dauphin County; Conoy Township, Lancaster County; and York Haven Borough and Newberry Township, York County, Pa., Modification to the design of the nature-like fishway (Docket No. 20200308).

Opportunity To Appear and Comment

Interested parties may appear or call into the hearing to offer comments to the Commission on any business listed above required to be the subject of a public hearing. Given the nature of the meeting, the Commission strongly encourages those members of the public wishing to provide oral comments to pre-register with the Commission by emailing Jason Oyler at joyler@srbc.gov before the hearing date. The presiding officer reserves the right to limit oral statements in the interest of time and to control the course of the hearing otherwise. Access to the hearing via telephone will begin at 5:45 p.m. Guidelines for the public hearing are posted on the Commission's website, www.srbc.gov, before the hearing for review. The presiding officer reserves the right to modify or supplement such guidelines at the hearing. Written comments on any business listed above required to be the subject of a public hearing may also be mailed to Mr. Jason Oyler, Secretary to the Commission, Susquehanna River Basin Commission, 4423 North Front Street, Harrisburg, Pa. 17110-1788, or submitted electronically through https://www.srbc.gov/meeting-comment/default.aspx?type=2&cat=7. Comments mailed or electronically submitted must be received by the Commission on or before Monday, August 11, 2025.

Authority: Public Law 91-575, 84 Stat. 1509 et seq., 18 CFR parts 806, 807, and 808.

Dated: July 1, 2025.
Jason E. Oyler,
General Counsel and Secretary to the Commission.

[FR Doc. 2025-12476 Filed 7-2-25; 8:45 am]

BILLING CODE 7040-01-P